DEPARTMENT OF THE INTERIOR

Fish and Wildlife Service

50 CFR Part 17

RIN 1018-AG41

Endangered and Threatened Wildlife and Plants; Proposal To Delist Eriastrum hooveri (Hoover's Woolly-Star)

AGENCY: Fish and Wildlife Service, Interior.

ACTION: Proposed rule.

SUMMARY: We, the U.S. Fish and Wildlife Service (Service), propose to remove Eriastrum hooveri (Hoover's woolly-star) from the List of Endangered and Threatened Plants. This action is based on a review of all available data, which indicate that E. hooveri is more widespread and abundant than was documented at the time of listing, is more resilient and less vulnerable to certain activities than previously thought, and is protected on Federal, State, and private lands. The management practices of the Bureau of Land Management (BLM), on whose land a significant number of new populations have been found, afford adequate protection to the species. Occidental of Elk Hills, Inc. will manage and monitor a 2,863 hectare (7,075 acre) conservation area that contains E. hooveri occurrences. Occurrences of E. hooveri are also found on six other preserves and natural areas managed variously by the BLM, California Department of Fish and Game, and other private entities. Consequently, E. hooveri is not likely to become endangered within the foreseeable future throughout all or a significant portion of its range. Eriastrum hooveri populations range from the upper Cuyama Valley in Santa Barbara County, northward to the Panoche Hills area of San Benito County, and include sites in Fresno, Kings, Kern, and San Luis Obispo Counties in California. If made final, this rule would remove Federal protection for E. hooveri under the Endangered Species Act of 1973, as amended.

DATES: Comments from all interested parties must be received by May 7, 2001. Public hearing requests must be received by April 20, 2001.

ADDRESSES: If you wish to comment on this proposal, you may submit your comments by any one of several methods. You may submit written comments by mail to the Field Supervisor, U.S. Fish and Wildlife Service, Sacramento Fish and Wildlife Office, 2800 Cottage Way, Suite W-2605, Sacramento, California 95825-1888. You may send comments by electronic mail (e-mail) to: fw1hoovers_woolly_star@fws.gov. Finally, you may hand-deliver comments to our Sacramento Fish and Wildlife Office at 2800 Cottage Way, Suite W-2605, Sacramento, California.

FOR FURTHER INFORMATION CONTACT: Elizabeth Warne, botanist, U.S. Fish and Wildlife Service at the above address or telephone 916/414-6600.

SUPPLEMENTARY INFORMATION:

Background

Eriastrum hooveri (Hoover's woolly-star) was evidently first collected in 1935 by Gregory Lyons near Little Panoche Creek in Fresno County; however, Willis Jepson (1943) described the plant as Hugelia hooveri, citing a 1937 collection by Robert Hoover (the namesake for the scientific and common names) as the type. Later, Herbert Mason (1945) transferred the species along with the rest of the woolly-stars to the genus Eriastrum.

Eriastrum hooveri, an annual herb of the phlox family (Polemoniaceae), produces many wire-like stems and tiny white to pale blue flowers that are less than 5 millimeters (0.2 inch (in.)) across. The flowers are nearly hidden in tufts of woolly hair. The leaves are thread-like and may have two narrow lobes near the base. Standing 1-20 centimeters (cm) (0.4-8 in.) tall, the species has grayish, fuzzy stems, which are often branched (Munz and Keck 1959; Ellen Cypher, San Joaquin Valley Endangered Species Recovery Planning Program, pers. comm. 1998). The most important characteristics for distinguishing this species from other Eriastrum species are the flower size and the ratio between the length of the corolla and the length of the lobes on the petals (petals are highly colored portions of the flower and collectively are called the corolla). Characteristics of the stamen (male reproductive organ) can also help identify this species (Taylor and Davilla 1986).

Eriastrum hooveri prefers areas with lower annual plant densities and stable, silty to sandy soils that often exhibit cryptogamic crusting (cryptogamic crusts are composed of a complex of mosses, algae, bacteria, fungi, and lichens at the soil surface) (Bureau of Land Management (BLM) 1994). The influence of ongoing geological processes of the Lost Hills appears to provide favorable conditions and habitat for the species. Eriastrum hooveri is found on Federal lands at Lost Hills and in the Buena Vista Hills on alluvial deposits adjacent to the San Joaquin Valley (BLM 1992, 1994; EG&G Energy Measurements, Inc. (EG&G) 1994). In the area of the largest concentration of plants, which occurs on both privately and publicly owned land in the Kettleman Hills, the species has been found growing primarily on Cantua coarse sandy loam (Russ Lewis, BLM, pers. comm. 1995). Soil preferences of this species have not been studied for other locations.

Historically, prior to 1986, Eriastrum hooveri was known from 19 sites in San Luis Obispo, Kern, Fresno, and Santa Barbara Counties in California. Eriastrum hooveri was originally thought to be distributed in the Temblor Range (Kern and San Luis Obispo Counties), Cuyama Valley (San Luis Obispo and Santa Barbara Counties), and in a discontinuous fashion within valley saltbush scrub and valley sink scrub from Fresno County south in the San Joaquin Valley (Taylor and Davilla 1986) in California. Most of these sites occurred on private property on the San Joaquin and Cuyama Valley floors or on land known as the Naval Petroleum Reserve, which was administered by the U.S. Department of Energy (Department of Energy).

The Naval Petroleum Reserve-1 (NPR-1) was established in 1912 for national defense purposes but was largely maintained in reserve shut-in status until 1976. Because of oil shortages in the early 1970s, Congress passed the Naval Petroleum Reserve Production Act in 1976, which provided for oil production on NPR-1. Buena Vista Hills Oil Field, which encompasses Naval Petroleum Reserve-2 (NPR-2), lies to the south of and is partially contiguous with NPR-1. Together, NPR-1 and NPR-2 constitute what was known as the Naval Petroleum Reserves in California (Service 1995a).

Eriastrum hooveri was listed July 19, 1990 (55 FR 29361) as a threatened species under the Endangered Species Act of 1973, as amended (Act) (16 U.S.C. 1531 et seq.). Prior to listing, a study of Eriastrum hooveri was conducted in 1986 to determine the status of the species (Davilla and Taylor 1986). This study and additional surveys conducted between 1986 and the time of listing revealed that 118 populations existed (55 FR 29361). Twelve populations were known to have been lost due to conversion of habitat to agriculture (Taylor and Davilla 1986; 55 FR 29361). Only two were identified as occurring on public land. Ninety-two percent of these sites were considered to be threatened by various activities, especially oil and gas development. Threats to the species at the time of listing were oil and gas development, agricultural land conversion, urbanization, and other habitat modifications.

The results of the 1986 survey, however, did not accurately reflect the distribution of the species because of the poor growing conditions during this period (EG&G 1995a). In subsequent years, particularly 1993, abundant spring rainfall created favorable growing conditions for annual plants (EG&G 1994, 1995b). Since the listing, surveys have shown Eriastrum hooveri to be more widespread and abundant than was previously known on public land, especially in the foothill areas. New locations were reported by the BLM (BLM 1992, 1994), and additional locations were submitted to the California Natural Diversity Data Base (CNDDB). Over 400 locations have been recorded on NPR-1 since the time of listing (Brian Cypher, Enterprise Advisory Services, Inc., pers. comm. 1998). Eriastrum hooveri is also known to occur on NPR-2; however, detailed population information is not available (B. Cypher, pers. comm., 1998).

BLM staff estimate that 1,056 Eriastrum hooveri sites occupying approximately 982 hectares (ha) (2,426 acres (ac)) have been located during surveys conducted on private and public lands in 1992 and 1994 (BLM 1992, 1994). These surveys have shown that E. hooveri populations range from the upper Cuyama Valley near Ventucopa, Santa Barbara County, northward to the Panoche Hills in San Benito County, a distance of approximately 224 kilometers (140 miles). This distance approximates the historic range; however, many more foothill sites have been found. Eriastrum hooveri is now known to occur in 42 U.S. Geological Survey quadrangles within Kings, Kern, San Luis Obispo, Santa Barbara, San Benito, and Fresno Counties. Large areas of potential suitable habitat remain unsurveyed, and it is likely that additional sites remain undiscovered throughout the range of this species (BLM 1994).

Eriastrum hooveri occurrences are mainly located within four areas, or metapopulations (E. Cypher, pers. comm. 1995; Service 1998). A metapopulation consists of scattered groups of plants that function as a single population due to occasional interbreeding. The four metapopulations from largest to smallest are—(1) the Kettleman Hills area in Fresno and Kings Counties; (2) the Carrizo Plain-Elkhorn Plain-Temblor Range-Caliente Mountains-Cuyama Valley-Sierra Madre Mountains area in San Luis Obispo, Santa Barbara, and extreme western Kern Counties; (3) the Lokern-Elk Hills-Buena Vista Hills-Coles Levee-Maricopa-Taft area in Kern County; and (4) the Antelope Plain-Lost Hills-Semitropic area in Kern County. Each of the metapopulations occurs on both private and public land. Additional, more isolated populations occur throughout the region.

The numbers of sites within the metapopulations range from 425 sites in the Kettleman Hills area to 112 sites in the Antelope Plain-Lost Hills-Semitropic area. The numbers of plants present in these two areas from 1992 to 1994 ranged from 135 million plants in Kettleman Hills to approximately 479,000 plants in the Antelope Plain-Lost Hills-Semitropic area. These numbers, however, vary widely from year to year due to changes in climatic conditions, particularly rainfall (Service 1998). Not all sites discovered during the 1992 and 1994 surveys constitute individual populations. The sites vary in area and numbers of plants and may be sufficiently close to one or more other sites to be considered part of a larger population.

An estimated 25 percent of all Eriastrum hooveri plants are on land managed by the BLM. The U.S. Forest Service (Forest Service) and the Department of Energy have less than 7 percent under their management. In addition, 23 percent of individual plants are located on split estate lands, where Federal mineral rights exist on private lands. Of the remaining individuals, 18 percent occur on a combination of split estate and private lands, and at least 27 percent occur on private lands only.

Oil and gas development on split estate land is controlled by the Federal Government, although the private landowner retains control of the surface property. Any oil and gas development on these lands would require environmental review by the BLM of impacts to listed species. Activities authorized by the BLM that may impact Eriastrum hooveri are restricted by the protection measures agreed upon by the BLM through a section 7 consultation with us, which dealt with 35 species of animals and plants including E. hooveri (consultation file number 1-1-97-F-0064) (Service 1997; Susan Carter, BLM, pers. comm. 1998). The BLM has incorporated species-specific and general habitat protection measures into their resource area land use plans since E. hooveri was listed. These measures will provide effective protection of natural habitat values and minimize impacts of various activities on E. hooveri. The BLM has agreed to consider the species as a special status species after delisting. This status will provide continued protection on BLM lands from impacts due to oil and gas development and grazing. The BLM also agreed to annually monitor the species at representative sites within each of the four metapopulations on their lands for a period of at least 5 years following publication of the final rule to delist the species. See more discussion about BLM actions in the section of this proposed rule titled “Effects of Proposed Rule to Delist.”

On February 5, 1998, the Department of Energy transferred ownership and management of one of its two reserves, NPR-1, to the private ownership of Occidental of Elk Hills, Inc. (Occidental) (B. Cypher, pers. comm. 1998). The Department of Energy agreed, through a consultation with us (consultation file number 1-1-95-F-102) (Service 1995a) prior to transfer, to implement conservation measures at Elk Hills including the dedication of a 2,863-ha (7,075-ac) conservation area for the protection of Eriastrum hooveri, among other species (LSA Associates, Inc., 1998). Occidental has agreed to abide by the Department of Energy agreement (Peter Cross, Service, pers. comm. 1998).

There is no formal agreement between us and the Department of Energy for the specific protection of Eriastrum hooveri on NPR-2; however, they informally consult with us on a case-by-case basis on projects that may affect listed species on NPR-2. The Department of Energy currently proposes to continue ownership of NPR-2 (Duane Marti, BLM, pers. comm. 1998) and has agreed to consult with the us on the operation of NPR-2 once the decision that they will retain the reserve is final (P. Cross, pers. comm. 1998).

Eriastrum hooveri also occurs on several areas that have been acquired for the protection of listed animals. These areas include the Alkali Sink Ecological Reserve and Buttonwillow Preserve, both managed by California Department of Fish and Game (CDFG); Carrizo Plain Natural Area, co-managed by the BLM and CDFG; Coles Levee Ecosystem Preserve, owned and managed by ARCO; Lokern Natural Area, managed by the BLM, Center for Natural Lands Management, Chevron, and other private landowners; and Semitropic Ridge Preserve, owned and managed by the Center for Natural Lands Management (Service 1998; Wendie Duron, The Nature Conservancy, pers. comm. 1998).

Considering these ownership patterns and the protection provided to the species by BLM management practices (refer to Factor D “The inadequacy of existing regulatory mechanisms” under “Summary of Factors Affecting the Species”); the number of new occurrences found since the time of listing; and the knowledge that the species is more resilient and less vulnerable to certain activities than previously thought; it is not likely that Eriastrum hooveri will become endangered within the foreseeable future throughout all or a significant portion of its range. Eriastrum hooveri, therefore, no longer meets the definition of a threatened species under the Act.

Previous Federal Action

On September 27, 1985, we published a revised notice of review for native plants in the Federal Register (50 FR 39526). This revised notice added Eriastrum hooveri as a category 2 candidate species. Category 2 species were those species for which information in our possession indicated that listing was possibly appropriate, but for which additional information on biological vulnerability and threats was needed to support a proposed rule. On July 27, 1989, we published a proposal to list E. hooveri as threatened (54 FR 31201). The final rule listing E. hooveri as a threatened species was published July 19, 1990 (55 FR 29361).

Summary of Factors Affecting the Species

Section 4 of the Act and regulations (50 CFR part 424) written to implement the listing provisions of the Act set forth the procedures for listing, reclassifying, and delisting species. A species may be listed if one or more of the five factors described in section 4(a)(1) of the Act threatens the continued existence of the species. A species may be delisted, according to 50 CFR 424.11(d), if the best scientific and commercial data available substantiate that the species is neither endangered nor threatened because of (1) extinction, (2) recovery, or (3) error in the original data for classification of the species. We have carefully assessed the best scientific and commercial information available regarding the past, present, and future threats faced by Eriastrum hooveri. We conclude that, based on more complete survey data and information on the biology of the species than was available at the time of listing, E. hooveri is not likely to become endangered within the foreseeable future throughout all or a significant portion of its range. Therefore, we propose to remove E. hooveri from the List of Endangered and Threatened Plants.

The five factors affecting the species, as described in section 4(a)(1), and their current application to Eriastrum hooveri (Jepson) H.L. Mason (Hoover's woolly-star) are as follows:

A. The Present or Threatened Destruction, Modification, or Curtailment of Its Habitat or Range

Oil and Gas Leasing

The predominant threat facing Eriastrum hooveri at the time it was listed as a threatened species was oil and gas development, especially in the Elk Hills area. Russ Lewis of the BLM has conducted several surveys for E. hooveri on public and private lands since the time of listing (BLM 1992, 1994). Of the 1,056 new sites found by Lewis during 1992 and 1994, oil and gas development threats were present for about 21 percent of the sites. Threats at many of these sites are no longer significant because several oil fields are at or near their peak of development, and the likelihood of additional habitat loss from new activity is low.

In the Elk Hills area, oil production areas are established on the upper flanks of the hills on the former NPR-1. Exploration activities generally have failed to establish oil production in the lower flanks (BLM 1994). The majority (73 percent) of the Eriastrum hooveri sites occur at lower elevations (EG&G 1995a); therefore, the majority of E. hooveri populations in NPR-1 are in areas not likely to be developed for petroleum production (B. Cypher, pers. comm. 1998).

Mobil Oil Corporation enacted measures to protect Eriastrum hooveri by placing protective exclosures around all known sites on a Lost Hills leased property (BLM 1994). Lewis also noted that above-surface pipeline corridors appear to be unintentionally restricting access of off-highway vehicles to remaining undisturbed habitat and, consequently, are protecting many other sites in the area (BLM 1994). The E. hooveri Field Inventory Report (BLM 1994) documents the presence of E. hooveri in large numbers throughout fully developed oil fields, such as Lost Hills, that have been in existence for several decades.

Because Eriastrum hooveri reoccupies disturbed surfaces such as well pads and pipeline rights-of-way after a period of non-use, the species likely will continue to exist both on federally and privately owned, fully developed oil fields (BLM 1994). EG&G Energy Measurements monitored the reestablishment of E. hooveri (under sponsorship by the Department of Energy and Chevron) following two disturbances that occurred in 1990. Density estimates of E. hooveri 3 years after disturbance in both cases approached density estimates recorded on undisturbed sites (EG&G 1995a). Although oil and gas development does constitute a potential surface disturbance threat, it does not appear to threaten the long-term survival of this species.

Agricultural and Urban Development

Agricultural and urban development was also cited as a threat at the time of listing. Although sites that occur within the San Joaquin Valley are experiencing threats from development, the majority of the plants are found along the hilly margins of the Valley, usually between 90 and 910 meters (300 to 3,000 feet) in elevation. The full extent of the historic distribution of Eriastrum hooveri on the San Joaquin Valley floor will never be fully known due to widespread agricultural development throughout this geographic area.

The California Natural Diversity Data Base documents that Eriastrum hooveri sites have existed on sandy places along the historic drainage routes running northward from Buena Vista Lake to Tulare Lake (R. Lewis, in litt. 1995). There are other locations along the Kern River drainage from Bakersfield to Buena Vista Lake and additional sites on the valley floor in Fresno County. Much of the valley floor is agriculturally developed, virtually to its fullest extent (R. Lewis, in litt. 1995). Future development is uncertain and would require encroachment into hilly and agriculturally less-desirable geographic areas. Limited water availability for additional agricultural and urban development is a severely limiting factor in the southern San Joaquin Valley; however, urban development along the Interstate 5 corridor could impact remaining occupied habitat at a few locations. The majority of the existing locations are located on or near hilly areas due to ongoing geological processes that create habitat essential for the species; therefore, agricultural and urban threats to the continued survival of E. hooveri appear to be minimal.

Off-Highway Vehicles

The Eriastrum hooveri Field Inventory Report (BLM 1994) considered 15 percent of sites evaluated to have potential threats from off-highway vehicles. The report stated that the presence of a dirt road near a site constituted a threat; however, many of these dirt roads are very remote, seldom traveled, and inaccessible to the public due to locked gates. Most of the sites documented in the report had no threats or documented impacts because the sites were inaccessible to vehicles.

Off-highway vehicle impacts are rare occurrences and typically consist of tire tracks across occupied habitat, in many cases as a one-time occurrence by a single vehicle. In some roads located in the Caliente Mountains and Cuyama Valley, the species was found growing in the wheel treads of the road. In addition, E. hooveri was found growing on several inactive motorcycle paths located in the Kettleman Hills, some of which were approximately 46 cm (18 in.) deep. The plants appear to persist in the absence of renewed disturbance. The low number of documented impacts and the recolonizing ability of E. hooveri indicate that off-highway vehicle use does not represent a threat to the long-term survival of the species (BLM 1994).

The majority of the six Eriastrum hooveri populations in Los Padres National Forest are located on lightly used or abandoned roads that receive an estimated one to ten vehicle passes per year. This light road use appears to help maintain the presence of the species, although the plants do not grow in the actual tire tracks. The populations do not extend into areas, which apparently have suitable habitat, that surround the roads (Mike Foster, Forest Service, pers. comm. 1998).

B. Overutilization for Commercial, Recreational, Scientific, or Educational Purposes

Overutilization is not a factor known to affect Eriastrum hooveri.

C. Disease or Predation

Eriastrum hooveri tends to occupy soil surface that does not support a large amount of vegetation. Grazing by wild herbivores is not known to occur. And, although cattle may trail through areas occupied by E. hooveri en route to areas of desirable forage (refer to Factor E “Other natural or manmade factors affecting its continued existence.”), they do not appear to be grazing within the sparsely vegetated E. hooveri occupied habitat (BLM 1994). Furthermore, observations of the wiry and low-growing E. hooveri plants have shown that they are not desirable forage for livestock (BLM 1994); therefore, grazing does not constitute a serious threat to E. hooveri.

No known diseases affect Eriastrum hooveri.

D. The Inadequacy of Existing Regulatory Mechanisms

The Act may incidentally afford protection to Eriastrum hooveri where it coexists with other federally listed species. For example, E. hooveri occupies a subset of the range and habitat of the federally endangered San Joaquin kit fox (Vulpes macrotis mutica). The recovery plan for this species recommends the establishment of a system of multispecies reserves that are within the range of E. hooveri (Service, 1983). Lands acquired for this reserve system will likely benefit E. hooveri, as will the continued legal protection afforded the fox under the Act.

Eriastrum hooveri is not a State-listed species under the California Endangered Species Act.

The principal protection for Eriastrum hooveri, if this rule is finalized, will be through management on BLM land where Areas of Critical Environmental Concern, which contain occupied E. hooveri habitat, were designated in the Kettleman Hills, Carrizo Plain, and Lokern areas in May 1997 (S. Carter, pers. comm. 1998; Amy Kuritsubo, BLM, pers. comm. 1998). Areas of Critical Environmental Concern were authorized in Section 202(c)(3) of the Federal Land Policy and Management Act of 1976. These are areas where special management attention is needed to protect and prevent irreparable damage to important resources or to protect human life from natural hazards (BLM 1993). The management prescriptions proposed for Areas of Critical Environmental Concern are included in the Caliente Resource Area Resource Management Plan and provide protection to the plants by minimizing residual impacts from rights-of-way, oil and gas leasing, and authorized grazing (R. Lewis, pers. comm. 1995; S. Carter, pers. comm. 1998).

The BLM's Caliente Resource Area Resource Management Plan and Environmental Impact Statement addresses future management of Eriastrum hooveri. Eriastrum hooveri will be designated a “sensitive species” by the BLM after the species is delisted (Ed Hastey, BLM, in litt. 1995). BLM policy will minimize impacts to the species at all known sites that are under their jurisdiction. Before any surface disturbance is allowed, the BLM will require an inventory to be conducted on the project site as outlined in the Formal Consultation on Oil and Gas Leasing in the Caliente Resource Management Plan (Service 1995b). A Limited Surface Use Stipulation for Federally Proposed and Listed Species will be issued for oil and gas leases within listed species habitat in the Caliente Resource Area (Service 1995b; BLM 1996). Impacts to the species by oil and gas leasing on BLM lands will be minimized by avoidance of populations, by requiring that surface disturbing activities take place after seed set and prior to germination if avoidance is not possible, and by fencing during project activity. If populations cannot be avoided, topsoil may be stockpiled for a period less than one year and replaced after project completion (BLM 1995).

In areas where Eriastrum hooveri overlaps the range of the federally listed plant species Caulanthus californicus (California jewelflower), Lembertia congdonii (San Joaquin woolly-threads), or Eremalche kernensis (Kern mallow), grazing will be allowed only in approved study areas (S. Carter, pers. comm. 1995). In addition, where the species overlaps the range of federally listed animal species, certain grazing restrictions will apply. The restrictions include requirements for residual mulch (dry plant material) of 50 kilograms (kg) per ha (49 pounds (lbs) per ac), and 5 cm (2 in.) of green growth, or 318 kg per ha (238 lbs per ac) in order for grazing to occur. Because E. hooveri habitat is generally sparsely vegetated, this residual mulch requirement will protect E. hooveri from overgrazing (S. Carter, pers. comm. 1998). In areas where the species occurs in saltbush scrub, the season of use will be from December 1 to May 31, with 20 percent maximum use of saltbush plants (S. Carter, pers. comm. 1995).

Eriastrum hooveri population site locations will be placed into a Geographic Information System (GIS) to help in the management of future activities that may arise within the range of the species (S. Carter, pers. comm. 1995). The BLM will establish monitoring locations at key sites on public land in the four metapopulations (see “Background” under Supplementary Information where oil and gas development, grazing, off-highway vehicles, and agricultural or urban uses pose potential threats. These locations will be monitored annually for a period of at least 5 years after delisting, at which time the status of the species on BLM land will be evaluated for possible changes in management strategy (E. Hastey, in litt. 1995). The BLM will continue to report new locations.

E. Other Natural or Manmade Factors Affecting Its Continued Existence

Although Eriastrum hooveri is not a desirable forage plant for livestock, damage can occur by trampling (BLM 1994). Only 5 percent of the sites recorded by Lewis were affected by cattle and sheep grazing activities; therefore, livestock trampling does not appear to constitute a serious threat to E. hooveri.

At the time of listing, competition with nonnative grasses was cited as a threat. Eriastrum hooveri requires habitat with lower plant densities, therefore, it does not occur in areas with a dense cover of nonnative species (E. Cypher, pers. comm. 1995). These areas of lower plant densities generally have evidence of cryptogamic crusts, which also indicate minimal levels of past disturbance. Dense stands of nonnative annual vegetation can be found adjacent to these open surface areas. In all cases, small numbers of nonnative plants can be found throughout E. hooveri habitat but not in densities that would exclude E. hooveri. This species may initially colonize areas having low plant cover because of disturbance, but E. hooveri subsequently may be outcompeted by nonnative plants in areas with sufficient moisture (E. Cypher, pers. comm. 1995). Considering the wide distribution and abundance of preferred habitat areas with relatively open surface area and low numbers of nonnative species, however, competition with nonnative grasses is not a threat to the long-term survival of E. hooveri.

Eriastrum hooveri has been found in many more locations than were documented at the time of listing; it is more resilient and less vulnerable to certain activities, particularly impacts from grazing and oil and gas development, than was previously thought; and is protected on Federal, State, and private lands. BLM's management practices afford adequate protection to the species. Occurrences are also found on the 2,863-ha (7,075-ac) Occidental conservation area and six other preserves and natural areas managed variously by the BLM, CDFG, and other private entities.

Effects of the Rule

If finalized, the proposed action would remove Eriastrum hooveri from the List of Endangered and Threatened Species. The threatened designation under the Act for this species would be removed. The prohibitions and conservation measures provided by the Act would no longer apply to this species. Therefore, taking, interstate commerce, import, and export of E. hooveri would no longer be prohibited under the Act. In addition, Federal agencies would no longer be required to consult with us to insure that any action they authorize, fund, or carry out is not likely to jeopardize the continued existence of E. hooveri. The take and use of E. hooveri must comply with State regulations. There is no designated critical habitat for this species.

Monitoring

Section 4(g)(1) of the Act requires us to monitor a species for at least 5 years after delisting due to recovery. Since E. hooveri is being delisted based on new information, rather than recovery, the Act does not require us to monitor this plant following its delisting. Although this species is not being delisted due to recovery, its level of protection has met the recovery criteria outlined in the Draft Recovery Plan for Upland Species (Service 1998). The recovery strategy states that recovery of E. hooveri can be accomplished using public lands and other areas already dedicated for conservation with the goal of protecting populations throughout the species' range and at sites representing a variety of topographic areas and community types. The species is currently found on six preserves and natural areas, three BLM Areas of Critical Environmental Concern, and NPR-1 and -2. These areas contain portions of each of the four metapopulations and occurrences in the northernmost and the southernmost extent of the species' range. Monitoring will be conducted by the BLM at representative sites within each metapopulation to determine trends for 5 years following delisting as part of their agreement to protect the species (E. Hastey, in litt. 1995).

Public Comments Solicited

We intend that any final action resulting from this proposal will be as accurate and as effective as possible. Therefore, we solicit comments or suggestions from the public, other concerned governmental agencies, the scientific community, industry, or any other interested party concerning this proposed rule. We particularly seek comments concerning:

(1) Biological, commercial trade, or other relevant data concerning any threat (or lack thereof) to Eriastrum hooveri;

(2) Additional information concerning the range, distribution, location of any additional populations, and population size of this species; and

(3) Current or planned activities in the subject area and their possible impacts on this species.

Submit comments as indicated under ADDRESSES. If you wish to submit comments by e-mail, please submit these comments as an ASCII file and avoid the use of special characters and any form of encryption. Please also include “Attn: [RIN number] and your name and return address in your e-mail message. If you do not receive a confirmation from the system that we have received your e-mail message, contact us directly by calling our Sacramento Fish and Wildlife Office at phone number 916-414-6600. Please note that the e-mail address “fw1hoovers_woolly_star@fws.gov” will be closed at the termination of the public comment period.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety. Comments and materials received, as well as supporting information used to write this rule, will be available for public inspection, by appointment, during normal business hours at the above address.

In making a final decision on this proposal, we will take into consideration the comments and any additional information we receive. Such communications may lead to a final regulation that differs from this proposal.

The Act provides for a public hearing on this proposal, if requested. Requests must be received within 45 days of the date of publication of the proposal. Such requests must be made in writing and addressed to the Field Supervisor, U.S. Fish and Wildlife Service, Sacramento Fish and Wildlife Office, 2800 Cottage Way, Suite W-2605, Sacramento, California 95825-1888.

Paperwork Reduction Act

Office of Management and Budget (OMB) regulations at 5 CFR 1320, which implement provisions of the Paperwork Reduction Act, require that Federal agencies obtain approval from OMB before collecting information from the public. Implementation of this rule does not include any collections of information that require approval by OMB under the Paperwork Reduction Act.

National Environmental Policy Act

We have determined that we do not need to prepare an Environmental Assessment, as defined under the authority of the National Environmental Policy Act of 1969, in connection with regulations adopted pursuant to section 4(a) of the Act. We published a notice outlining our reasons for this determination in the Federal Register on October 25, 1983 (48 FR 49244).

Executive Order 12866

This rule is not subject to review by the OMB under Executive Order 12866.

References Cited

A complete list of all references cited herein is available upon request from the Sacramento Fish and Wildlife Office, U.S. Fish and Wildlife Service (see ADDRESSES section).

Author

The primary author of this proposed rule is Elizabeth Warne, Sacramento Fish and Wildlife Office, U.S. Fish and Wildlife Service (see ADDRESSES section).

List of Subjects in 50 CFR Part 17

Endangered and threatened species, Exports, Imports, Reporting and recordkeeping requirements, Transportation.

Proposed Regulation Promulgation

Accordingly, we hereby propose to amend part 17, subchapter B of chapter I, Title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

2. Section 17.12(h) is amended by removing the entry for Eriastrum hooveri, Hoover's woolly star, under “Flowering Plants” from the List of Endangered and Threatened Plants.

Dated: December 5, 2000.
Jamie Rappaport Clark,
Director, Fish and Wildlife Service.

[FR Doc. 01-5288 Filed 3-5-01; 8:45 am]

BILLING CODE 4310-55-U